DEPARTMENT OF JUSTICE

Notice of Lodging of Consent Decree Under the Clean Water Act

Notice is hereby given that on August 28, 2009, a proposed Consent Decree (“Decree”) in United States v. Charleswood, Inc., Civil Action No. 3:09-CV-00080 (RRE-KKK), was lodged with the United States District Court for the District of North Dakota, Southeastern Division. The case was brought under Section 402 of the Clean Water Act (“CWA”), 33 U.S.C. 1342, and involves the applicable permits governing discharge of storm water from the Charleswood Development in West Fargo, North Dakota.

The Consent Decree requires that Charleswood (1) achieve and maintain compliance with the CWA and its implementing regulations, including applicable permits; (2) pay a civil penalty of $37,500 to redress the company's past violations of the CWA and its implementing regulations, including applicable permits; and (3) establish a compliance and oversight program that must be implemented by the company to reduce the discharge of storm water from the Charleswood Development.

The United States filed a Complaint with the Consent Decree which alleges that Charleswood failed to comply with the conditions of two general permits issued to it under Section 402 of the Act, 33 U.S.C. 1342, relating to the Charleswood Development. The Consent Decree would resolve the claims against Charleswood as described in the Complaint. The ultimate entry of the Consent Decree by the District Court of North Dakota would end this litigation.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to Civil Action No. 3:09-CV-00080 (RRE-KKK), D.J. Ref. No. 90-5-1-1-08299.

The Decree may be examined at the Office of the United States Attorney, District of North Dakota, 655 1 Ave. N., Suite 250, Fargo, North Dakota 58102. It also may be examined at the offices of U.S. EPA Region 8, 1595 Wynkoop Street, Denver, Colorado 80202. During the public comment period, the Decree may be examined on the following Department of Justice Web site, http://www.usdoj.gov/enrd/Consent_Decrees.html.

A copy of the Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.00 (25 cents per page reproduction cost) payable to the U.S. Treasury or, if by e-mail or fax, forward a check in that amount to the Consent Decree Library at the stated address.

Maureen Katz,
Assistant Section Chief, Environmental Enforcement Section, Environment and Natural Resources Division.

[FR Doc. E9-21907 Filed 9-10-09; 8:45 am]

BILLING CODE 4410-15-P